DEPARTMENT OF DEFENSE

Office of the Secretary

32 CFR Part 143

[Docket ID: DOD-2020-OS-0049]

RIN 0790-AK23

DoD Policy on Organizations That Seek To Represent or Organize Members of the Armed Forces in Negotiations or Collective Bargaining

AGENCY: Office of the Under Secretary of Defense for Personnel and Readiness, Department of Defense (DoD).

ACTION: Final rule.

SUMMARY: This final rule removes the DoD's regulation that prohibits members of the armed forces from being members of a “military labor organization,” which is an organization that engages or attempts to engage in negotiations or bargaining on behalf of service members concerning the terms or conditions of military service. The rule restates statute or otherwise contains internal DoD processes wholly contained within DoD internal guidance. Therefore, this part can be removed from the Code of Federal Regulations (CFR).

DATES: This rule is effective on September 11, 2020.

FOR FURTHER INFORMATION CONTACT: Christa A. Specht, Office of Legal Policy, Office of the Under Secretary of Defense (Personnel and Readiness), (703) 697-3387.

SUPPLEMENTARY INFORMATION: It has been determined that publication of this rule removal for public comment is impracticable, unnecessary, and contrary to public interest because the underlying rule simply restates the law in 10 U.S.C. 976, or otherwise contains internal DoD processes. The only additional language in 32 CFR 143.7 and 143.8 contains internal DoD procedures and guidelines. These provisions are publicly available in DoD Instruction 1354.01, “DoD Policy on Organizations That Seek to Represent Or Organize Members of the Armed Forces in Negotiation Or Collective Bargaining,” published January 19, 2007 (available at https://www.esd.whs.mil/Portals/54/Documents/DD/issuances/dodi/135401p.pdf).

This rule is not significant under Executive Order (E.O.) 12866, “Regulatory Planning and Review.” Therefore, the requirements of E.O. 13771, “Reducing Regulation and Controlling Regulatory Costs,” do not apply. This removal supports a recommendation of the DoD Regulatory Reform Task Force.

List of Subjects in 32 CFR Part 143

Government employees, Labor management relations, Military personnel.

PART 143—[REMOVED]

Accordingly, by the authority of 5 U.S.C. 301, 32 CFR part 143 is removed.

Dated: September 8, 2020.
Aaron T. Siegel,
Alternate OSD Federal Register Liaison Officer, Department of Defense.

[FR Doc. 2020-20087 Filed 9-10-20; 8:45 am]

BILLING CODE 5001-06-P